DEPARTMENT OF STATE

[Public Notice: 9815]; [No. FMA-2016-04]

Designation and Determination Under the Foreign Missions Act

Pursuant to the authority vested in the Secretary of State by the laws of the United States, including the Foreign Missions Act, codified at 22 U.S.C. 4301-4316 (the “Act”), and delegated by the Secretary to me as the Under Secretary of State for Management in Delegation of Authority No. 198, dated September 16, 1992, and after due consideration of the benefits, privileges, and immunities provided to missions of the United States abroad, as well as matters related to the protection of the interests of the United States, I hereby under section 202(a)(1) of the Act (22 U.S.C. 4302(a)(1)) designate employment authorization for dependents of foreign mission members in the United States as a benefit for purposes of section 204 of the Act (22 U.S.C. 4304).

I determine that employment authorization for dependents of foreign mission members shall be provided on such terms and conditions as the Office of Foreign Missions (OFM) may approve. Specifically, on the basis of reciprocity, and following notification to the foreign mission, OFM may require payment of a surcharge, or may impose processing delays, require additional documentation, or impose other restrictions or burdens on the foreign mission and/or applicant.

This action is reasonably necessary on the basis of reciprocity to protect the interests of the United States, adjust for costs and procedures of obtaining benefits for missions of the United States abroad, and carry out the policy set forth in section 201(b) of the Act (22 U.S.C. 4301(b)).

Dated: October 25, 2016.
Patrick F. Kennedy,
Under Secretary for Management, Department of State.

[FR Doc. 2016-29599 Filed 12-8-16; 8:45 am]

BILLING CODE 4710-43-P